DEPARTMENT OF HEALTH AND HUMAN SERVICES

National Institutes of Health

Center for Scientific Review; Amended Notice of Meeting

Notice is hereby given of a change in the meeting of the Center for Scientific Review Special Emphasis Panel, June 20, 2003, 3 p.m. to June 20, 2003, 4 p.m., Hyatt Regency Bethesda, One Bethesda Metro Center, 7400 Wisconsin Avenue, Bethesda, MD 20814, which was published in the Federal Register on June 9, 2003, 68 FR 34406-34408.

The meeting times have been changed to 2 p.m. to 3 p.m. The meeting date and location remain the same. The meeting is closed to the public.

Dated: June 12, 2003.
LaVerne Y. Stringfield,
Director, Office of Federal Advisory Committee Policy.

[FR Doc. 03-15553 Filed 6-19-03; 8:45 am]

BILLING CODE 4140-01-M